DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 4 individuals and 1 entity whose property and interests in property are blocked pursuant to Executive Order 13224 of September 23, 2001, “Blocking Property and Prohibiting Transactions With Persons Who Commit, Threaten To Commit, or Support Terrorism.”

DATES: OFAC's actions described in this notice were effective on October 20, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On October 20, 2016, OFAC blocked the property and interests in property of the following 4 individuals and 1 entity pursuant to E.O. 13224, “Blocking Property and Prohibiting Transactions With Persons Who Commit, Threaten To Commit, or Support Terrorism”:

Individuals

1. KALLAS, Muhammad Al-Mukhtar (a.k.a. KALLAS, Mohamad El Mokhtar; a.k.a. KALLAS, Mohamed); DOB 09 Jan 1987; POB Haret Hreik, Lebanon; nationality Lebanon; Additional Sanctions Information—Subject to Secondary Sanctions Pursuant to the Hizballah Financial Sanctions Regulations; Gender Male; Passport RL0665670 (Lebanon) (individual) [SDGT] (Linked To: HIZBALLAH; Linked To: TABAJA, Adham Husayn).

2. HAMDAR, Muhammad Ghaleb (a.k.a. AMADAR, Mohammed; a.k.a. AMADAR, Muamad; a.k.a. HAMDAR, Mohammed Galeb; a.k.a. HAMDAR, Mouhamad Ghaleb; a.k.a. HAMDAR, Muamad Ghaleb); DOB 01 Aug 1986; alt. DOB 01 Jan 1986; POB Lebanon; Additional Sanctions Information—Subject to Secondary Sanctions Pursuant to the Hizballah Financial Sanctions Regulations; Gender Male; Passport E0063360 (Sierra Leone); alt. Passport RL-1108616 (Lebanon) (individual) [SDGT] (Linked To: HIZBALLAH).

3. AYAD, Yosef (a.k.a. AYAD, Yosef de Castro; a.k.a. AYAD, Youssef); DOB 27 Jan 1989; POB Lebanon; nationality Philippines; alt. nationality Lebanon; Additional Sanctions Information—Subject to Secondary Sanctions Pursuant to the Hizballah Financial Sanctions Regulations; Gender Male (individual) [SDGT] (Linked To: HIZBALLAH).

4. JAMAL-AL-DIN, Hasan (a.k.a. JAMALEDDINE, Hassan); DOB 11 May 1983; POB Burj al-Burajne, Lebanon; nationality Lebanon; Additional Sanctions Information—Subject to Secondary Sanctions Pursuant to the Hizballah Financial Sanctions Regulations; Gender Male; Passport RL2589786 (Lebanon) expires 11 Feb 2019 (individual) [SDGT] (Linked To: HIZBALLAH; Linked To: TABAJA, Adham Husayn).

Entity

1. GLOBAL CLEANERS S.A.R.L. (a.k.a. GLOBAL CLEANERS, INC.), Center Mzannar, Main Street, Second Floor, Baabda, Lebanon; Airport Road, Beirut, Lebanon; Street 21, Section 929, Al Karrada Area, Baghdad, Iraq; Additional Sanctions Information—Subject to Secondary Sanctions Pursuant to the Hizballah Financial Sanctions Regulations [SDGT] (Linked To: HIZBALLAH; Linked To: TABAJA, Adham Husayn).

Dated: October 20, 2016.
John E. Smith,
Acting Director, Office of Foreign Assets Control.

[FR Doc. 2016-25752 Filed 10-24-16; 8:45 am]

BILLING CODE 4810-AL-P